DEPARTMENT OF THE INTERIOR

Bureau of Safety and Environmental Enforcement

[Docket ID BSEE-2012-0008; OMB Number 1014-0009]

Information Collection Activities: Legacy Data Verification Process (LDVP); Submitted for Office of Management and Budget (OMB) Review; Comment Request

ACTION: 30-Day notice.

SUMMARY: To comply with the Paperwork Reduction Act of 1995 (PRA), we are notifying the public that we have submitted to OMB an information collection request (ICR) to renew approval of the paperwork requirements for the Notice to Lessees (NTL) on the Legacy Data Verification Process (LDVP). This notice also provides the public a second opportunity to comment on the paperwork burden of these requirements.

DATES: Submit written comments by November 5, 2012.

ADDRESSES: Submit comments either by fax (202) 395-5806 or email (OIRA_DOCKET@omb.eop.gov) directly to the Office of Information and Regulatory Affairs, OMB, Attention: Desk Officer for the Department of the Interior (1014-0009). Please also submit a copy of your comments to BSSE by any of the means below:

• Electronically: go to http://www.regulations.gov. In the entry titled, “Enter Keyword or ID,” enter BSEE-2012-0008 then click search. Follow the instructions to submit public comments and view all related materials. We will post all comments.

• Email cheryl.blundon@bsee.gov, fax (703) 787-1546, or mail or hand-carry comments to: Department of the Interior; Bureau of Safety and Environmental Enforcement; Regulations Development Branch; Attention: Cheryl Blundon; 381 Elden Street, HE3313; Herndon, Virginia 20170-4817. Please reference 1014-0009 in your comment and include your name and return address.

FOR FURTHER INFORMATION CONTACT: Cheryl Blundon, Regulations and Standards Branch, (703) 787-1607, to request additional information about this ICR. To see a copy of the entire ICR submitted to OMB, go to http://www.reginfo.gov (select Information Collection Review, Currently Under Review).

SUPPLEMENTARY INFORMATION: Title: Legacy Data Verification Process (LDVP).

OMB Control Number: 1014-0009.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” These responsibilities are among those delegated to the Bureau of Safety and Environmental Enforcement (BSEE).

To carry out these responsibilities, BSEE issues regulations to ensure that operations in the OCS will meet statutory requirements; provide for safety and protect the environment; and result in diligent exploration, development, and production of OCS leases. In addition, we issue Notices to Lessees and Operators (NTLs) that provide clarification, explanation, and interpretation of our regulations. These NTLs are also used to convey purely informational material and to cover situations that might not be addressed in our regulations. The latter is the case for this information collection. Because of the unusual nature of this information collection, issuing an NTL is the appropriate means to collect the information.

The subject of this information collection request is the “Legacy Data Verification Process (LDVP),” formerly known as the “Historical Well Data Cleanup Program (HWDC).” It needs to be stressed that the information we are collecting is information that respondents are required to submit under regulations at 30 CFR part 250, subpart D. However, in the past we did not always enforce this regulatory requirement for certain wellbores for several reasons. We did not foresee the value of this information for all wellbores, nor did we anticipate that not having the information would later create problems for the agency and others. We also did not have a sophisticated electronic database that could handle the information. The LDVP IC is found in § 250.467(c). These are the records that the lessee must keep until the well is abandoned. The collection is also looking for any records that should have been submitted to BSEE but are not in BSEE's inventory. The key to this collection is that BSEE wants to know the location of all the wellbores, specifically:

—Records of well completion or workover activities that materially alter the completion configuration or affect a hydrocarbon-bearing zone—§ 250.467(c),

—Well logs and surveys run in the wellbore—§ 250.468(a),

—Directional surveys—§ 250.468(a),

—Service company reports on cementing, perforating, acidizing, testing, or other similar reports—§ 250.469(c).

We now collect all of the required information on a current basis (under 30 CFR part 250, subpart D, OMB Control Number 1014-0018). Prior assurance to respondents that providing the information in connection with this process will not subject them to the penalties for not providing the information is still in place. We are requesting a renewal of this collection to allow operators more response time over a longer period to provide the missing or corrected data.

We will protect information from respondents considered proprietary under the Freedom of Information Act (5 U.S.C. 552) and its implementing regulations (43 CFR part 2) and under regulations at 30 CFR 250.197, “Data and information to be made available to the public or for limited inspection.” No items of a sensitive nature are collected. Responses are mandatory.

Frequency: On occasion.

Description of Respondents: Potential respondents comprise Federal OCS oil, gas, and sulphur lessees.

Estimated Reporting and Recordkeeping Hour Burden: The estimated hour burden for this information collection is a total of 417 annual burden hours. The respondents will submit information for a remaining estimated 500 wells from an original 40,000 wells. Based on our own input, the concurrence of the contractor hired for this, and informal discussions with a few potential respondents, we estimate it will take respondents 0.5 hours to locate and copy scout tickets for each well and 2.0 hours to retrieve and analyze each well file over a 3-year timeframe (2.5 hours × 500 wells—1,250/3 = 417 annual burden hours (rounded)).

In calculating the burdens, we assumed that respondents perform certain requirements in the normal course of their activities. We consider these to be usual and customary and took that into account in estimating the burden.

Estimated Reporting and Recordkeeping Non-Hour Cost Burden: We have identified no non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * * ” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on May 14, 2012, we published a Federal Register notice (77 FR 28401) announcing that we would submit this ICR to OMB for approval. The notice provided the required 60-day comment period. In addition, § 250.199 provides the OMB control number for the information collection requirements imposed by the 30 CFR part 250 regulations. The regulation also informs the public that they may comment at any time on the collections of information and provides the address to which they should send comments. We have received no comments in response to this effort.

Public Availability of Comments: Before including your address, phone number, email address, or other personal identifying information in your comment, you should be aware that your entire comment—including your personal identifying information—may be made publicly available at any time. While you can ask us in your comment to withhold your personal identifying information from public review, we cannot guarantee that we will be able to do so.

Dated: July 24, 2012.
Robert W. Middleton,
Deputy Chief, Office of Offshore Regulatory Programs.

[FR Doc. 2012-24470 Filed 10-3-12; 8:45 am]

BILLING CODE 4310-VH-P